DEPARTMENT OF THE INTERIOR

Bureau of Land Management

[212 LLUTG02000 L12200000.PM0000]

Notice of Public Meeting, San Rafael Swell Recreation Area Advisory Council, Utah

AGENCY: Bureau of Land Management, Interior.

ACTION: Notice of public meeting.

SUMMARY: In accordance with the Federal Land Policy and Management Act, the Federal Advisory Committee Act, and the Federal Lands Recreation Enhancement Act, the U.S. Department of the Interior, Bureau of Land Management's (BLM) San Rafael Swell Recreation Area Advisory Council (Council) will meet as indicated below.

DATES: The Council is scheduled to meet on August 10, 2021, from 12:30 p.m. to 5 p.m. and on August 11, 2021, from 7:30 a.m. to 2 p.m. A virtual meeting platform and/or teleconference may substitute if public safety concerns remain to prevent the spread of COVID-19.

ADDRESSES: The meeting will be held at the Emery County Courthouse, 75 East Main Street, Castle Dale, Utah 84513. Written comments to address the Council may be sent to Lance Porter, Green River District Manager, 170 South 500 West, Vernal, Utah 84078, or via email with the subject line “San Rafael Swell Advisory Council meeting” to utprmail@blm.gov.

FOR FURTHER INFORMATION CONTACT: Lance Porter, Green River District Manager, 170 South 500 West, Vernal, Utah 84078; phone (435) 781-4400; or email l50porte@blm.gov. Persons who use a telecommunications device for the deaf may call the Federal Relay Service (FRS) at 1-800-877-8339 to leave a message or question for the above individual. The FRS is available 24 hours a day, seven days a week. Replies are provided during normal business hours.

SUPPLEMENTARY INFORMATION: The John D. Dingell, Jr. Conservation, Management, and Recreation Act (Pub. L. 116-9) established the Council to provide advice and information for the BLM in planning and managing the San Rafael Swell Recreation Area. The seven-member council represents a wide range of interests including local government, recreational users, grazing allotment permittees, conservation organizations, expertise in historical uses of the recreation area, and Tribes. More information can be found at: https://www.blm.gov/get-involved/resource-advisory-council/near-you/utah/San-Rafael-Swell-RAC. Agenda topics for August 10 include an overview of special status species, visitor use patterns, campground implementation, and virtual maps. Agenda topics for August 11 include a short field trip to visit two well-known recreation sites (if COVID-19 public safety concerns do not apply), and a land use planning update. The final agenda and meeting information will be posted on the Council's web page 30 days before the meeting.

The meeting is open to the public; however, transportation, lodging, and meals are the responsibility of the participating individuals. A public comment period will be offered each day of the scheduled meeting. Depending on the number of people wishing to comment and the time available, the time for individual comments may be limited. People wishing to speak will be asked to sign in before the scheduled oral comment time for planning and record keeping purposes. Written comments may also be sent to the Green River District Manager at the address listed in the ADDRESSES section of this notice. All comments received will be provided to the Council.

Public Disclosure of Comments: Before including your address, phone number, email address, or other personal identifying information in your comment, you should be aware that your entire comment—including your personal identifying information—may be made publicly available at any time. While you can ask us in your comment to withhold your personal identifying information from public review, we cannot guarantee that we will be able to do so.

Detailed Council meeting minutes will be maintained in the Green River District Office and will be available for public inspection and reproduction during regular business hours within 90 days following each meeting. Minutes will also be posted to the Council web page.

Authority: 43 CFR 1784.4-2.

Gregory Sheehan,
State Director.

[FR Doc. 2021-13112 Filed 6-22-21; 8:45 am]

BILLING CODE 4310-DQ-P